DEPARTMENT OF AGRICULTURE

Rural Utilities Service

7 CFR Parts 1710, 1714, 1717, 1724, and 1730

[Docket No. RUS-22-Electric-0031]

RIN 0572-AC57

Electric Program Streamlining and Improvement

AGENCY: Rural Utilities, USDA.

ACTION: Final rule; confirmation and response to comment.

SUMMARY: The Rural Utilities Service (RUS or Agency), an agency in the United States Department of Agriculture (USDA) Rural Development Mission area, published a final rule with comment in the Federal Register on November 30, 2022, to revise several regulations to streamline procedures for Electric Program borrowers, including its loan application requirements, approval of work plans and load forecasts, use of approved contracts and system design procedures and reporting requirements. Through this action, RUS is confirming the final rule as it was published and providing a response to the public comment received.

DATES: The final rule published November 30, 2022, at 87 FR 73433, is confirmed as of February 28, 2023.

FOR FURTHER INFORMATION CONTACT: Robert Coates, Branch Chief, Policy and Outreach Branch, Office of Customer Service and Technical Assistance, Rural Utilities Service; U.S. Department of Agriculture; Stop 1569, 1400 Independence Avenue SW, Washington, DC 20250-0787; telephone (202) 720-1900, email RUSElectric@usda.gov. Persons with disabilities or who require alternative means for communication should contact the USDA Target Center at (202) 720-2600.

SUPPLEMENTARY INFORMATION: Rural Development is a mission area within the U.S. Department of Agriculture (USDA) comprising the Rural Utilities Service, Rural Housing Service, and Rural Business-Cooperative Service. Rural Development's mission is to increase economic opportunity and improve the quality of life for all rural Americans. Rural Development meets its mission by providing loans, loan guarantees, grants, and technical assistance through numerous programs aimed at creating and improving housing, business, and infrastructure throughout rural America.

The RUS Electric Program loans, loan guarantees and grants finance the construction and improvement of rural electric infrastructure. In an effort by the RUS Electric Program to administer its program in an efficient and effective manner while improving its customer service and experience, and in response to requests from the RUS Electric Program borrowers, the Electric Program undertook a systematic review of regulations and procedures in place to administer its program. In addition to the final rule, the Electric Program has completed two other streamlining efforts to date.

The final rule that published November 30, 2022 (87 FR 73433), included a 60-day comment period that ended on January 30, 2023. The Agency received one set of comments from the Osage Nation Historic Preservation Office (ONHPO).

The Agency appreciates the comments from the ONHPO. The Agency concurs that the term tribal areas should be more clearly defined. The intent of the additional language is to ensure that non-Tribal borrowers obtain consent of the Tribe, when proposing a service territory that includes an area over which a Tribal government has regulatory authority, similar to the consent and permits required to build infrastructure in other jurisdictions. Additionally, borrowers must comply with Tribal law when operating in tribal areas where Tribes have regulatory authority.

The Agency agrees it is appropriate to consult with Tribes on such a definition and will do so to determine the optimal policy mechanism to define tribal areas and how to incorporate the definition into its policies and practices at a later date. Applicants, borrowers, and Tribes are encouraged to contact RUS for any needed clarification.

The crux of the additional comments from ONHPO were focused on compliance with the National Historic Preservation Act, the National Environmental Policy Act, the Native American Graves Protection and Repatriation Act, the Archaeological Resource Protection Act, the American Indian Religious Freedom Act, and Executive Order 13007, “Indian Sacred Sites.” Nothing in the rule amends or alters the Agency's regulatory and administrative requirements of this program under the cited Statutes and Executive order, including the National Historic Preservation Act and associated implementing regulations.

The Agency appreciates the suggestion that it meet with Tribal Historic Preservation Departments in 2023. The Agency welcomes ongoing input from Tribal Historic Preservation Officers and the National Association of Tribal Historic Preservation Officers regarding its ongoing responsibilities under the National Historic Preservation Act.

Again, RUS appreciates and has considered the comments from the ONHPO on the final rule. Due to the responses detailed above the Agency confirms the final rule without change.

Andrew Berke,
Administrator, Rural Utilities Service.

[FR Doc. 2023-03418 Filed 2-16-23; 8:45 am]

BILLING CODE 3410-15-P